DEPARTMENT OF DEFENSE

Department of the Air Force

Notice of Intent To Prepare an Environmental Impact Statement (EIS) for Proposed Range Enhancements at the Barry M. Goldwater Range, Arizona

AGENCY: Department of the Air Force.

ACTION: Notice of Intent (NOI).

SUMMARY: This NOI is being issued pursuant to the National Environmental Policy Act (NEPA) of 1969, as amended (42 United States Code 4321, et seq.), the Council on Environmental Quality Regulations for implementing procedural provisions of NEPA (40 Code of Federal Regulation (CFR) Parts 1500-1508), and Air Force policy and procedures (32 CFR Part 989) to advise the public of the Air Force's intent to prepare an EIS that will evaluate the environmental effects associated with range enhancements and alternatives within the eastern portion of the Barry M. Goldwater Range (BMGR), Arizona.

The Air Force is also initiating a scoping process and public meetings to assist in determining the extent of issues to be addressed in the EIS. Three scoping meetings will be held, as scheduled below. Each meeting will include an open house where the public may review maps and other displays. Federal, state, and local agencies; Native American tribes; and interested individuals are encouraged to take this opportunity to identify environmental concerns that should be addressed in the preparation of the EIS.

DATES: Public scoping meetings will be held as follows:

Tuesday, January 15, 2008, 6-8 p.m., Glendale High School, Media Center, 6216 W. Glendale Avenue, Glendale, AZ.

Wednesday, January 16, 2008, 6-8 p.m., El Rio Center, 1390 W. Speedway Boulevard, Tucson, AZ.

Thursday, January 17, 2008, 6-8 p.m., Gila Bend Union High School, 308 N. Martin Avenue, Gila Bend, AZ.

SUPPLEMENTARY INFORMATION: The eastern portion of the BMGR (BMGR-East) is assigned to the Secretary of the Air Force and is operated by Luke Air Force Base to train combat aircrews and support personnel.

Periodically, operational and infrastructure upgrades to the range are needed to keep training both realistic and relevant to current and emerging war fighting technology and tactics. Consequently, the Air Force now proposes upgrades to BMGR-East that include:

*Developing a training area to train in the use of precision-guided munitions in an urban setting (no actual air-to-ground ordnance would be released)

* Reconfiguring targets in tactical and manned ranges, which may include relocating targets within pre-2001 annual explosive ordnance disposal clearance areas within the tactical ranges

* Introducing a remotely operated moving target to provide aircrews with realistic training to engage moving vehicle targets

* Reconfiguring Manned Range 3 to include a helicopter gunnery range with fixed, moving, and pop-up targets

* Modifying the Memorandum of Understanding (MOU) among the Department of the Interior and the Secretaries of the Navy and the Air Force to change the floor for routine flight training operations over portions of the Cabeza Prieta National Wildlife Refuge from 1,500 feet to 500 feet above ground level to support realistic low-level approaches to targets; BMGR-East restricted airspace (R-2301E) is currently authorized for use from the surface to 80,000 feet above mean sea level, but training flight operations, with the exception of certain low-level flights along designated corridors, are limited by the 1994 MOU to 1,500 feet over the National Wildlife Refuge

* Developing an additional target for air-to-ground missiles in the East Tactical Range to allow training in air-to-ground missile delivery from multiple directions; the proximity of the current missile target to the range boundary severely constrains training

* Supporting training by small squads of troops or individual soldiers on foot

* Paving the road from Manned Range 1 to the water well to minimize vehicle wear, maintenance costs, and dust on this heavily used road

* Excavating, transporting, and stockpiling sand and gravel resources to provide an on-range source of these materials for road maintenance as well as target reconfiguration and maintenance

* Constructing a taxiway and air traffic control tower at the Gila Bend Air Force Auxiliary Field to improve airfield safety and expand operational capacity

Anticipated issues to be addressed in the EIS include, but are not limited to, airspace and range operations; water, biological resources (including endangered species), cultural resources; air quality; noise; and public access, health, and safety.

Written comments may be submitted at the meetings. Agencies and the public are also invited to provide written comment via mail on issues that are important to them. These written comments should be mailed to the address listed below, and must be received no later than January 28, 2008 to ensure fullest consideration in the EIS.

FOR FURTHER INFORMATION CONTACT: Direct any written comments or requests for information to Ms. Lisa McCarrick, 56 FW/RMO, 7224 N. 139th Drive, Luke AFB, AZ 85309-1420 (Phone 623/856-9475).

Bao-Anh Trinh,
Air Force Federal Register Liaison Officer.

[FR Doc. E7-25234 Filed 12-27-07; 8:45 am]

BILLING CODE 5001-05-P